DEPARTMENT OF ENERGY

Revised Record of Decision for the Environmental Impact Statement on a Proposed Nuclear Weapons Nonproliferation Policy Concerning Foreign Research Reactor Spent Nuclear Fuel

AGENCY: National Nuclear Security Administration, Department of Energy.

ACTION: Revised Record of Decision.

SUMMARY: The Department of Energy (DOE) is further revising ¹ the Record of Decision (61 FR 25092; May 17, 1996) on the Environmental Impact Statement on a Proposed Nuclear Weapons Nonproliferation Policy Concerning Foreign Research Reactor Spent Nuclear Fuel (DOE/EIS-218, February 1996), to allow the United States to take title to spent nuclear fuel and target material from foreign research reactors located in countries of any income at locations other than the port of entry into the United States.

¹ The Record of Decision was previously revised three times: July 25, 1996 (61 FR 38720); July 19, 2000 (65 FR 44767); and December 1, 2004 (69 FR 69901).

FOR FURTHER INFORMATION CONTACT: For further information on DOE's Foreign Research Reactor Spent Nuclear Fuel Acceptance Program or this Revised Record of Decision, contact: Mr. Andrew Bieniawski, Assistant Deputy Administrator for Defense Nonproliferation, Office of Global Threat Reduction (NA-21), U.S. Department of Energy, 1000 Independence Avenue, SW., Washington, DC 20585, Attn: 955 L'Enfant, 202-586-9215.

For information on DOE's National Environmental Policy Act (NEPA) process, contact: Ms. Carol M. Borgstrom, Director, Office of NEPA Policy and Compliance (GC-20), U.S. Department of Energy, 1000 Independence Avenue, SW., Washington, DC 20585-0103, (202) 586-4600, or leave a message at (800) 472-2756.

SUPPLEMENTARY INFORMATION:

Background

DOE, with the Department of State as a cooperating agency, issued the Environmental Impact Statement on a Proposed Nuclear Weapons Nonproliferation Policy Concerning Foreign Research Reactor Spent Nuclear Fuel (FRR SNF EIS, DOE/EIS-218) in February 1996. The Record of Decision was issued on May 13, 1996, and was published in the Federal Register on May 17, 1996 (61 FR 25092). In the FRR SNF EIS, DOE and the Department of State considered the potential impacts of a proposed policy to manage U.S.-origin spent nuclear fuel and target material from foreign research reactors. After consideration of public comments submitted on the Draft and Final EIS, DOE, in consultation with the Department of State, decided to implement the proposed policy as identified in the Preferred Alternative contained in the Final EIS, subject to additional stipulations specified in Section VII of the Record of Decision. The Record of Decision stated, “DOE would take title to the foreign research reactor spent nuclear fuel and target material that is shipped by sea after it is unloaded from the ship at the port of entry * * * ” In its initial decision, DOE announced that eligible spent fuel that is irradiated and discharged from reactors before May 13, 2006, is eligible for acceptance through May 12, 2009. DOE later extended the program for an additional 10 years, until May 12, 2016, for irradiation of eligible fuel, and until May 12, 2019, for fuel acceptance (69 FR 69901; December 1, 2004).

DOE subsequently determined that the need may arise during implementation of the policy for the United States to take title to spent nuclear fuel and target material from foreign research reactors located in countries with other-than-high-income economies at locations other than the port of entry into the United States. Foreign governments had raised a concern in cases where transportation casks from multiple countries were on a single vessel regarding who would be liable for any potential damage when spent fuel from one country is in the territory of another during the shipment. DOE was informed that shipowners willing to transport spent nuclear fuel from these countries without coverage under the Price-Anderson Act had not been identified. After determining that the point at which title to the spent nuclear fuel and target material transfers from the reactor operator to the United States had no effect on the physical processes that would take place under the acceptance policy, and thus would not have any effect on the potential impacts to the environment, workers, or the public, DOE issued its Revision to the Record of Decision (61 FR 38720; July 25, 1996) to allow DOE to take title to spent nuclear fuel and target material from foreign research reactors located in countries with other-than-high-income economies, as defined in the Final EIS, at locations other than the port of entry into the United States. This revised policy did not extend to reactors in countries with high-income economies, since reactor operators in these countries, at that time, were able to provide sufficient liability insurance for transporting their own spent nuclear fuel to the United States.

Reason for the Revision

Recently, the need has arisen during implementation of the policy for the United States also to take title to spent nuclear fuel and target material from foreign research reactors located in countries with high-income economies at locations other than the port of entry into the United States.

Nuclear insurance pools covering individual reactor operators in countries with high-income economies have begun to require additional coverage. This rise in premiums affects, in particular, some smaller foreign research reactors in high-income economy countries that are in many cases operated by educational and research institutions that do not have the funding to pay for additional coverage, estimated to cost approximately $50,000 per shipping participant. Since some smaller foreign research reactors would have significant difficulties obtaining additional funding, they could decide not to participate at all in future shipments. One reactor in a high-income economy country recently refused to participate in a shipment without reimbursement of additional insurance costs.

DOE anticipates that liability insurance costs will continue to increase in the coming years for reactors in countries of all incomes. If research reactors in high-income economy countries are increasingly unable to participate in shipments due to lack of liability insurance, the program's nonproliferation goal of repatriating U.S.-origin highly enriched uranium would be jeopardized.

DOE's experience since 1996 in taking title to material from reactors in other-than-high-income economy countries has confirmed that the point at which title to the spent nuclear fuel and target material transfers from the reactor operator to the United States has no effect on the physical processes that take place under the acceptance policy. There are, for example, no changes in the applicable requirements or handling practices that ensure worker and public safety and environmental protection. Thus, the location of title change does not have any effect on the potential impacts to the environment.

Therefore, in place of the current policy that allows DOE to take title to spent nuclear fuel or target material at a location other than the U.S. port of entry only from foreign research reactors in other-than-high-income-economy countries, DOE is herein revising the Record of Decision to allow the title transfer location for spent nuclear fuel or target material from reactors located in countries of any income to be determined on a case-by-case basis by DOE, and the terms and conditions of the title transfer to be specified in DOE's individual contracts with the reactor operators. As with the policy in the prior Revised Record of Decision (61 FR 38720; July 25, 1996), title could transfer as early as the departure of the loaded cask from the reactor site or at the foreign port-of-origin, or as late as entry into the United States.

Decision

For the reasons set forth above, Section VII (“Decision”) of the Record of Decision (61 FR 25092; May 17, 1996) as previously revised (61 FR 38720; July 25, 1996) is further revised by replacing the current Paragraph E with a new Paragraph E to read as follows:

E. The United States may take title to the spent nuclear fuel and target material of research reactors from countries of any income at a location other than the port of entry into the United States. On a case-by-case basis, the United States will determine whether it is in its best interests, with regard to the execution of this policy, to take title to certain spent nuclear fuel and target material before it reaches the port of entry into the United States. The title transfer location will be specified in the contract with the affected reactor operator. In implementing this policy, the Administrator for the National Nuclear Security Administration must make, on a case-by-case basis, any decision to accept title to foreign research reactor spent nuclear fuel outside the United States. The authority to make this decision cannot be delegated.

In addition, Section IX (“Basis for the Decision”), Paragraph G (“Title Transfer Location”) of the Record of Decision is revised to read as follows:

G. Title Transfer Location—The alternative points at which DOE might take title to the spent nuclear fuel and target material are discussed in Sections 2.2.1.4 and 2.2.2.4 of the Final EIS. The point at which title will be transferred has no effect on the physical processes that would take place, and thus will not have any effect on the impacts on the environment, workers, or the public. However, the point of title transfer does affect financial responsibility for risks associated with the shipments.

Under United States law, the Price-Anderson Act would provide indemnification coverage for spent nuclear fuel and target material shipments from foreign research reactors upon entry of material into the United States regardless of when title is transferred to the United States. However, Price-Anderson coverage outside U.S. territory is provided only if the material is owned by, and used by, or under contract with the United States. For countries with other-than-high-income economies, DOE has provided Price-Anderson Act coverage on a case-by-case basis per the Revised Record of Decision issued in 1996 (61 FR 38720; July 25, 1996). Recently, reactor operators in countries with high-income economies have been unable to afford nuclear liability insurance due to increasing costs.

The approach for transfer of title discussed in Section VII.E. permits DOE to take title to spent fuel at locations other than the U.S. port of entry, regardless of the income status of the country repatriating the spent fuel or target material to the United States. This policy revision allows DOE, on a case-by-case basis, to extend Price-Anderson Act coverage and assume financial responsibility for shipments from the point at which DOE takes title. This removes the need for reactors for whom sufficient liability insurance is unaffordable to purchase such insurance for shipment to the U.S. port of entry. This provision will provide a mechanism whereby liability coverage can be provided for segments of the transportation process that the reactor operators are unable themselves to provide. In implementing this policy, the Administrator for the National Nuclear Security Administration must make, on a case-by-case basis, any decision to accept title to foreign research reactor spent nuclear fuel outside the United States. The authority to make this decision cannot be delegated.

The revision of the Record of Decision set forth in this Notice complies with the requirements of the National Environmental Policy Act (42 U.S.C. 4321 et seq.) and its implementing regulations at 40 CFR Parts 1500-1508 and 10 CFR Part 1021. Because there are no environmental impacts associated with changing the title transfer location, no further environmental review is required under the National Environmental Policy Act or Executive Order 12114 (January 4, 1979) in order to effectuate the revision.

Issued in Washington, DC, on August 13, 2008.
Thomas P. D'Agostino,
Under Secretary for Nuclear Security and Administrator, National Nuclear Security Administration.

[FR Doc. E8-19630 Filed 8-22-08; 8:45 am]

BILLING CODE 6450-01-P